INTERNATIONAL TRADE COMMISSION

[Investigation No. 337-TA-1119]

Certain Infotainment Systems, Components Thereof, and Automobiles Containing the Same; Notice of a Commission Determination Finding No Violation of Section 337; Termination of the Investigation

AGENCY: U.S. International Trade Commission.

ACTION: Notice.

SUMMARY: Notice is hereby given that the U.S. International Trade Commission has determined to affirm, with modified reasoning, the final initial determination's (“FID”) finding that no violation of section 337 has occurred. The investigation is terminated.

FOR FURTHER INFORMATION CONTACT: Lynde Herzbach, Office of the General Counsel, U.S. International Trade Commission, 500 E Street SW, Washington, DC. 20436, telephone (202) 205-3228. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal, telephone 202-205-1810.

SUPPLEMENTARY INFORMATION: On June 12, 2018, the Commission instituted this investigation based on a complaint filed by Broadcom Corporation (“Broadcom”) of San Jose, California. 83 FR 27349 (June 12, 2018). The complaint alleged a violation of section 337 of the Tariff Act of 1930, as amended, 19 U.S.C. 1337 (“section 337”) in the importation into the United States, sale for importation, or sale in the United States after importation of certain infotainment systems, components thereof, and automobiles containing same that allegedly infringe one or more claims of U.S. Patent Nos. 6,937,187 (“the '187 patent”); 8,902,104 (“the '104 patent”); 7,512,752 (“the '752 patent”); 7,530,027 (“the '027 patent”); 8,284,844 (“the '844 patent”); and 7,437,583 (“the '583 patent”) (collectively, “the Asserted Patents”). The notice of investigation named 15 respondents, including Toyota Motor Corporation of Aichi, Japan; Toyota Motor North America, Inc. of Plano, TX; Toyota Motor Sales, U.S.A., Inc. of Plano, TX; Toyota Motor Engineering & Manufacturing North America, Inc. of Plano, TX; Toyota Motor Manufacturing, Indiana, Inc. of Princeton, IN; Toyota Motor Manufacturing, Kentucky, Inc. of Erlanger, KY; Toyota Motor Manufacturing, Mississippi, Inc. of Tupelo, MS; and Toyota Motor Manufacturing, Texas, Inc. of San Antonio, TX (collectively, “Toyota”); Panasonic Corporation of Osaka, Japan and Panasonic Corporation of North America of Newark, NJ (collectively, “Panasonic”); DENSO TEN Limited of Kobe City, Japan and DENSO TEN AMERICA Limited of Torrance, CA (collectively, “DENSO TEN”); Renesas Electronics Corporation of Tokyo, Japan and Renesas Electronics America, Inc. of Milpitas, CA (collectively, “Renesas”); and Japan Radio Co., Ltd. of Tokyo, Japan. Id. at 27349-50. The Office of Unfair Import Investigations was not named as a party. Id. at 27351.

The complaint and notice of investigation were later amended to add ten more respondents, including Pioneer Corporation of Tokyo, Japan and Pioneer Automotive Technologies, Inc. of Farmington Hills, MI (collectively, “Pioneer”); DENSO Corporation of Aichi, Japan; DENSO International America, Inc. of Southfield, MI; DENSO Manufacturing Tennessee, Inc. of Maryville, TN; and DENSO Wireless Systems America, Inc. of Vista, CA (collectively, “DENSO Corp.”); u-blox AG of Thalwil, Switzerland; u-blox America, Inc. of Reston, VA; u-blox San Diego, Inc. of San Diego, CA; and Socionext Inc. of Kanagawa, Japan. Order No. 14 (Oct. 3, 2018), not rev'd in relevant part, Comm'n Notice (Nov. 1, 2018).

Certain patent claims were subsequently withdrawn and terminated from the investigation. See Order No. 20 (Jan. 31, 2019), not rev'd, Comm'n Notice (Feb. 19, 2019); Order No. 48 (June 5, 2019), not rev'd, Comm'n Notice (June 18, 2019); Order No. 49 (June 13, 2019), not rev'd, Comm'n Notice (June 28, 2019). At the time of the FID, the claims at issue were claims 1-3, 5, and 9 of the '187 patent; claim 12 of the '104 patent; claims 1-2 and 4-8 of the '752 patent; claims 11 and 20 of the '027 patent; claims 11 and 13 of the '844 patent; and claims 17-18 and 25-26 of the '583 patent. See Comm'n Notice (June 28, 2019).

On November 13, 2019, the ALJ issued an FID finding no violation of section 337. See FID. On November 15, 2019, the ALJ issued a Notice of Correction to Conclusions of Law in Initial Determination on Violation of Section 337 and a corrected FID issued on November 18, 2019. The corrected FID fixes a typographical error in the conclusions of law and correctly identifies Respondents found to infringe the '583 patent. See FID at p. 272.

The FID also contains the ALJ's recommended determination recommending, if a violation is found, that the Commission issue a limited exclusion order prohibiting the importation of infringing infotainment systems, components thereof, and automobiles containing same that infringe. as well as cease and desist orders directed to certain domestic respondents.

On November 26, 2019, Broadcom filed a petition for review of the FID and the respondents filed a contingent petition for review. On December 4, 2019, Broadcom and the respondents filed responses to each other's petitions.

On December 16, 2019, Broadcom filed a submission on the public interest pursuant to Commission Rule 210.50(a)(4) (19 CFR 210.50(a)(4)). That same day, Toyota, Renesas, and Tier 1 Suppliers (DENSO Corp., DENSO TEN, Panasonic, and Pioneer) filed their submissions on the public interest pursuant to Commission Rule 210.50(a)(4) (19 CFR 210.50(a)(4)). On December 18, 2019, two non-parties, Peter Morici and the Reshoring Initiative, filed submissions on the public interest in response to the Commission's notice requesting such responses. 84 FR 64104 (Nov. 20, 2019).

On March 3, 2020, the Commission determined to review the FID in part and requested briefing on certain issues. 85 FR 12576-78 (March 3, 2020). Specifically, the Commission determined to review the FID's findings on: (1) The claim construction of the limitation “at least one processor” recited in claims 25 and 26 of the '583 patent; (2) infringement of the asserted claims of the '583 patent; (3) technical prong of the domestic industry requirement as to the '583 patent; (4) invalidity of the asserted claims of the '752 patent; and (5) whether the accused Pioneer head units meet the limitations of claims 2 and 5 of the '752 patent. Id. The Commission requested briefing on some of the issues under review, and remedy, bonding, and the public interest. Id. On March 11, 2020, the parties filed their written responses to the Commission's request for briefing. On March 18, 2020, the parties filed their reply submissions.

On March 11, 2020, additional submissions on remedy, bonding, and the public interest were received from the following non-parties: Representatives and Senators from Kentucky; Representatives and Senators from Texas; Harman International Industries, Incorporated; and the Alliance for Automotive Innovation.

Having examined the record of this investigation, including the FID, the petitions for review, and the responses thereto, and filings in response to the Commission's request for briefing, the Commission has determined to affirm, with modified reasoning, the FID's finding of no violation of section 337. Specifically, the Commission affirms, with modified reasoning as explained in the Commission opinion, that: (1) Claims 25 and 26 of the '583 patent are not infringed by any Respondent; (2) the technical prong of the domestic industry requirement is not met for the '583 patent; (3) the Pioneer head units do not meet the limitations of claims 2 and 5 of the '752 patent; and (4) claims 1, 2, 4, 5, 7, and 8 of the '752 patent are invalid as anticipated and obvious. The Commission affirms the FID's infringement finding as to claims 17 and 18 of the '583 patent.

The investigation is terminated.

The authority for the Commission's determination is contained in section 337 of the Tariff Act of 1930, as amended (19 U.S.C. 1337), and in part 210 of the Commission's Rules of Practice and Procedure (19 CFR part 210).

By order of the Commission.
Issued: April 30, 2020.
Lisa Barton,
Secretary to the Commission.

[FR Doc. 2020-09636 Filed 5-5-20; 8:45 am]

BILLING CODE 7020-02-P